DEPARTMENT OF AGRICULTURE

Forest Service

Cibota National Forest, Mount Taylor Ranger District, NM, Roca Honda Mine

AGENCY: Forest Service, USDA.

ACTION: Notice of Intent to prepare an Environmental Impact Statement.

SUMMARY: Roca Honda Resources, LLC has submitted a Plan of Operations proposing to develop and conduct underground uranium mining operations on their mining claims on and near Jesus Mesa in the Mount Taylor Ranger District of the Cibola National Forest. The proposed mine is located within portions of Sections 9, 10 and 16, Township 13 North, Range 8 West, New Mexico Principal Meridian. These sections are located in McKinley County, New Mexico approximately three miles northwest of San Mateo and 22 miles northeast of Grants, New Mexico. Sections 9 and 10 are National Forest System lands, which are open to mineral entry under the General Mining Law of 1872. Section 16 is State of New Mexico land, which is not subject to the regulatory jurisdiction of the Forest Service. Roca Honda proposes a mine permit area encompassing all three sections (1,920 acres) and a surface disturbance area of 183 acres within Sections 9, 10 and 16. Additional surface disturbance associated with the mine haul roads is proposed for Sections 11, 17 and 20. The Cibola National Forest will prepare an environmental impact statement (EIS) to assess the development of a uranium mining operation on the Mount Taylor Ranger District.

DATES: Comments concerning the scope of the analysis must be received by 30 days after the publication of the NOI. Public scoping open houses will be held during the scoping period in Grants and Gallup, New Mexico. The tentative schedule for the open houses is as follows: Tuesday, December 14, 2010, in Grants, New Mexico, and Thursday, December 16, 2010, in Gallup, New Mexico. The final times and locations of these meetings will be announced by public notice and will be posted on the Cibola National Forest Web site. The draft environmental impact statement is expected by the summer of 2011 and the final environmental impact statement and Record of Decision (ROD) is expected by the end of 2011.

ADDRESSES: Send written comments to Diane Tafoya, Minerals Project Manager, Cibola National Forest, 2113 Osuna Road, NE., Albuquerque, NM 87113.

FOR FURTHER INFORMATION CONTACT: For further information, mail correspondence to Diane Tafoya, Minerals Project Manager, Cibola National Forest, 2113 Osuna Road, NE., Albuquerque, NM 87113.

Individuals who use telecommunication devices for the deaf (TDD) may call the Federal Information Relay Service (FIRS) at 1-800-877-8339 between 8 a.m. and 8 p.m., Eastern Time, Monday through Friday.

SUPPLEMENTARY INFORMATION:

Purpose and Need for Action

Roca Honda Resources, LLC has submitted a Plan of Operations for development of a uranium mine at the Roca Honda claims. The purpose of the EIS is to evaluate the environmental impacts of the proposed Plan of Operations and determine whether to approve the Plan as proposed or to require additional mitigation measures to protect the environment (in accordance with Forest Service regulations for locatable minerals).

The need for action is to allow Roca Honda Resources, LLC to exercise their rights under U.S. mining laws. Roca Honda Resources, LLC has a right to develop and remove the mineral resources as set forth by the General Mining Law of 1872 as amended. The 1872 Mining Law and 1897 Organic Act provide that the public has a statutory right to conduct prospecting, exploration, development and production activities on federal lands (unless specifically exempted), provided these activities are reasonably incident (1955 Multiple Use Mining Act and case law) to mining and comply with other federal laws.

The Forest Service has the responsibility to protect surface resources. Mining regulations state that, “operations shall be conducted so as, where feasible, to minimize adverse environmental effects on National Forest System surface resources (36 CFR 228.8),” provided such regulation does not endanger or materially interfere with prospecting, mining, or processing operations or reasonably incidental uses (1955 Multiple Use Mining Act and case law).

Proposed Action

Roca Honda proposes to conduct mining operations for a period of approximately 18-19 years, including mine development, operations and reclamation. The proposed mining operations consist of three phases: (1) Mine Development—baseline data gathering, initial site development, construction, and depressurizing activities, which would be conducted to facilitate mine shaft construction. Depressurizing activities include constructing a ring of wells around the perimeter of the area of the productions shafts into the Gallup, Dakota, and Westwater formations. These wells would be installed in advance of shaft construction and pumped in order to relieve the hydrostatic pressure in the formation, thus reducing the amount of water flowing into the shaft excavation as it advances through the formation. Five ventilation shafts, 8-10 ft in diameter, and two concrete-lined production shafts, 18 ft in diameter, would be constructed. (2) Mine Operation activities directly related to production of uranium ore from the underground mine, and transport of the ore offsite for mineral processing. Soils, rock, and ore would be stockpiled on the surface. Up to 4,000 gallons per minute of water would be pumped from the mine and treated prior to discharge in a tributary of San Mateo Creek. (3) Mine Reclamation—activities intended to reclaim land affected by mine development and operation, and to return that land to an approved post-mining land use (grazing).

The proposed federal action is to approve Roca Honda Resources, LLC's Plan of Operations with mitigations needed to protect other non-mineral surface resources consistent with Forest Plan, regulations, and other applicable laws.

Possible Alternatives

1. No. Action. 2. Approve the Plan as presented by Roca Honda Resources, LLC. 3. Approve the Plan as presented with stipulations necessary to protect the non-mineral resources of the area.

Responsible Official

Nancy Rose, Forest Supervisor, Cibola National Forest. 2113 Osuna Road, NE., Albuquerque, NM 87113.

Nature of Decision To Be Made

The Forest Supervisor will use the EIS process to develop the necessary information to make an informed decision on whether or not to approve the proposed Plan as submitted, or to decide what additional mitigations are needed to protect other resources as provided for in 36 CFR 228.8.

Preliminary Issues

Four preliminary issues have been identified: (1) Mine development and operations could potentially affect surface and ground water quality. (2) Mine development and operation may adversely affect the characteristics that make the Mt. Taylor Traditional Cultural Property (TCP) eligible for the National Register of Historic Places. (3) Legacy health issues with past uranium mining remain an issue in the region, raising concerns that the proposed mining could result in effects to workers and general public health. (4) Mine development and operations could induce local economic development by increasing jobs, income, expenditures, and the tax base. Other potential issues are air quality degradation from fugitive dust and radon gas emissions, traffic control, road construction standards, and uranium ore transport.

Permits or Licenses Required

The approved Plan of Operations authorizes mining. Operations must be consistent with Forest Service Conditions of Approval, and other applicable laws and regulations, including state permits for mining in New Mexico.

Scoping Process

This notice of intent initiates the scoping process which guides the development of the environmental impact statement. Comments are solicited and are welcome for 30 days beginning on the publication date of this notice.

Scoping will include this NOI, listing in the Quarterly Schedule of Proposed Actions, letters to interested and affected individuals, agencies, and organizations, and legal notices, and the open houses in Grants and Gallup, New Mexico. Additional information about the project, schedule, permits and approvals, and opportunities for public involvement will be available at the open houses and after those dates by contacting Diane Tafoya, Forest Service point of contact. The intent of scoping is to solicit comments on issues and alternatives that agencies and the public feel should be addressed in the EIS.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Authority: 40 CFR 1501.7 and 1508.22; 36 CFR 220.4.

Dated: November 16, 2010.
Nancy Rose,
Forest Supervisor Cibola National Forest.

[FR Doc. 2010-29477 Filed 11-23-10; 8:45 am]

BILLING CODE 3410-11-M